DEPARTMENT OF THE INTERIOR

Bureau of Indian Affairs

[223A2100DD/AAKC001030/A0A501010.999900]

Final Programmatic Environmental Impact Statement for the 2015 Integrated Resource Management Plan for the Colville Indian Reservation, Nespelem, Washington

AGENCY: Bureau of Indian Affairs, Interior.

ACTION: Notice of availability.

SUMMARY: This notice advises the public that the Bureau of Indian Affairs (BIA), as lead agency, and the Confederated Tribes of the Colville Reservation (Tribes) intends to file a Final Programmatic Environmental Impact Statement (FEIS) with the Environmental Protection Agency (EPA) for the 2015 Colville Reservation Integrated Resource Management Plan (IRMP). This notice announces that the FEIS is now available for public review.

DATES: The BIA will not issue a final decision on the proposal for a minimum of 30 days after the date that the EPA publishes its Notice of Availability (NOA) in the Federal Register. Any comments on the FEIS must arrive on or before the date 30 days after the EPA publishes a Notice of Availability in the Federal Register. The Record of Decision (ROD) on the proposed action will be issued no sooner than 30 days after the release of the FEIS.

ADDRESSES:

Comments: You may mail or hand-deliver written comments to Randall Friedlander, Superintendent, Bureau of Indian Affairs, Colville Agency, P.O. Box 111, 21 Colville Street, 3rd Floor NE, Nespelem, WA 99155-0111. Please include your name, return address, and the caption “FEIS Comments, Colville Reservation IRMP,” on the first page of your written comments. You can also submit comments by email to randall.friedlander@bia.gov. If emailing comments, please use “FEIS Comments, Colville Reservation IRMP,” as the subject of your email.

Public Review: The FEIS is available online at http://www.colvilletribes.com/irmp. The FEIS is also available for review during regular business hours at the following locations:

• BIA Colville Agency, 21 Colville St., 3rd Floor NE, Nespelem, WA 99155-0111.

• Inchelium Resource Center, 12 Community Center Loop, Inchelium, WA 99138.

FOR FURTHER INFORMATION CONTACT: Randall Friedlander, Superintendent, Bureau of Indian Affairs, Colville Agency, P.O. Box 111, Nespelem, WA 99155-0111, (509) 634-2316.

SUPPLEMENTARY INFORMATION: The purpose of the proposed action is approval the IRMP for the Tribes' natural and cultural resources. The proposed action updates the original IRMP that was prepared and implemented in 2000. The IRMP incorporates management goals and objectives for the commercial forest, rangeland, and agricultural lands of the Tribes.

The Tribes' forest products industry, livestock grazing, and agriculture have the potential to impact the natural and human environments of the Reservation. The FEIS analyzes the potential impacts associated with these activities. These include impacts to land resources such as geology, minerals, and soils, watershed function, surface and groundwater resources, air quality, biological resources, cultural and paleontological resources, socioeconomic conditions, transportation and forest access roads, land use, public services, noise, aesthetics, recreation, climate change, cumulative effects, and indirect and growth-inducing effects.

The FEIS considers five management alternatives developed by the Tribes' IRMP Core Team. The interdisciplinary team developed these management alternatives for consideration and analysis and designated a preferred alternative (Alternative 2) that was approved by the Colville Business Council in June 2014. The team also conducted a community survey in 2014 that asked community members to choose a preferred alternative. All groups were unanimous in selecting Alternative 2 as the preferred alternative. The alternatives are:

1. Continue the Current Management Strategy

2. Enhance and Improve the Current Management Strategy (Preferred Alternative)

3. Concentrate on Forest and Rangeland Health Problems

4. Expand Forest and Livestock Production

5. Eliminate Timber Harvesting and Livestock Grazing

A Notice of Intent (NOI) to prepare an EIS was released in the Federal Register on November 21, 2014 (79 FR 69521). Public scoping meetings were held in four Reservation communities in October 2015, and a Scoping Meetings Report was released in March 2016. An administrative draft DEIS was prepared and reviewed by the IRMP Core Team and appropriate revisions were incorporated along with supplemental information.

The Draft EIS (DEIS) was completed in November 2016. Notices of Availability (NOA) were published in the Federal Register by the BIA on June 14, 2017 (82 FR 27278) and the EPA on July 28, 2017 (82 FR 35200). The public review period ended on September 11, 2017. The Response to Comments was released on January 24, 2018. The original FEIS was completed on August 14, 2018, and page-count revisions were completed on December 18, 2018.

Public Comment Availability

Comments, including names and addresses of respondents, will be available for public review during regular business hours at the BIA mailing address shown in the ADDRESSES section of this notice. Before including your address, telephone number, email address, or other personal identifying information in your comment, you should be aware that your entire comment—including your personal identifying information—may be made publicly available at any time. While you can ask us in your comment to withhold your personal identifying information from public review, we cannot guarantee that we will be able to do so.

Authority

This notice is published pursuant to 40 CFR 1506.10(a) of the Council of Environmental Quality Regulations (40 CFR 1500 et seq.) and 43 CFR 46.305 of the Department of Interior Regulations (43 CFR part 46), the procedural requirements of the National Environmental Policy Act of 1969, as amended (42 U.S.C. 4371 et seq.), and is in accordance with the exercise of authority delegated to the Assistant Secretary—Indian Affairs by 209 DM 8.

Bryan Newland,
Assistant Secretary—Indian Affairs.

[FR Doc. 2022-26151 Filed 11-30-22; 8:45 am]

BILLING CODE 4337-15-P